DEPARTMENT OF THE INTERIOR

Fish and Wildlife Service

[Docket No. FWS-R7-ES-2021-0002; FF07CAMM00-FX-ES111607MRG01]

Marine Mammals; Letters of Authorization To Take Pacific Walrus and Polar Bears in the Beaufort Sea, Alaska, in 2019 and 2020 and Northern Sea Otters in Cook Inlet, Alaska in 2019 and 2020

AGENCY: Fish and Wildlife Service, Interior.

ACTION: Notice of issuance.

SUMMARY: In accordance with the Marine Mammal Protection Act of 1972, as amended, the U.S. Fish and Wildlife Service has issued Letters of Authorization for the nonlethal take of polar bears and Pacific walruses incidental to oil and gas industry exploration, development, and production activities in the Beaufort Sea and the adjacent northern coast of Alaska as well as northern sea otters in Cook Inlet, Alaska, in 2019 and 2020. This notice announces a list of the Letters of Authorizations that were issued in calendar years 2019 and 2020. The Letters of Authorization stipulate conditions and methods that minimize impacts to polar bears, Pacific walruses, and northern sea otters from these activities.

ADDRESSES: Document availability: You may view this notice as well as the Letters of Authorization at http://www.regulations.gov under Docket No. FWS-R7-ES-2021-0002, or these documents may be requested as described under FOR FURTHER INFORMATION CONTACT.

FOR FURTHER INFORMATION CONTACT: Charles Hamilton, Marine Mammal Management, U.S. Fish and Wildlife Service, MS 341, 1011 East Tudor Road, Anchorage, Alaska 99503, by email at R7mmmRegulatory@fws.gov or by telephone at 1-800-362-5148. Persons who use a telecommunications device for the deaf (TDD) may call the Federal Relay Service (FRS) at 1-800-877-8339, 24 hours a day, 7 days a week.

SUPPLEMENTARY INFORMATION: On August 5, 2016, the U.S. Fish and Wildlife Service published in the Federal Register a final rule (81 FR 52276) establishing regulations that allow us to authorize the nonlethal, incidental, unintentional take of small numbers of polar bears (Ursus maritimus) and Pacific walruses (Odobenus rosmarus divergens) during year-round oil and gas industry exploration, development, and production activities in the Beaufort Sea and adjacent northern coast of Alaska. The rule established subpart J in part 18 of title 50 of the Code of Federal Regulations (CFR) and is effective through August 5, 2021. The rule prescribed a process under which we issue Letters of Authorization (LOA) to applicants conducting activities as described under the provisions of the regulations.

Each LOA stipulates conditions or methods that are specific to the activity and location. Holders of the LOAs must use methods and conduct activities in a manner that minimizes to the greatest extent practicable adverse impacts on Pacific walruses and polar bears and their habitat, and on the availability of these marine mammals for subsistence purposes. Intentional take and lethal incidental take are prohibited under these regulations.

In accordance with section 101(a)(5)(A) of the Marine Mammal Protection Act (MMPA; 16 U.S.C. 1361 et seq.) and our regulations at 50 CFR part 18, subpart J, in 2019 and 2020 we issued LOAs to each of the companies in the Beaufort Sea and adjacent northern coast of Alaska shown below in table 1.

Table 1—Beaufort Sea Letters of Authorization
Year | Company | Activity | Project | LOA #
2019 | Caelus Natural Resources Alaska, LLC | Close-out and amendment | Transferring ownership of Oooguruk to Eni U.S. Operation Company, Inc., and Nuna to ConocoPhillips Alaska, Inc | 16-11 [amended].
2019 | ConocoPhillips Alaska, Inc | Acquisition | ConocoPhillips Alaska, Inc., acquired Nuna from Caelus | 16-13 [amended].
2019 | ConocoPhillips Alaska, Inc | Exploration and development | Geotechnical surveys and installation at the proposed Willow airstrip; in support of development in the Bear Tooth Unit | 18-14 [amended].
2019 | Oil Search Alaska | Exploration and support services | Pikka field exploratory drilling, environmental surveys, and transportation activities | 19-01 [amended].
2019 | Peak Oilfield Service Company, LLC | Support services | Transportation activities on the North Slope | 19-02.
2019 | SAExploration | Exploration | Seismic activities in the Prudhoe Bay Unit | 19-03.
2019 | TGS-NOPEC Geophysical Company | Exploration | 3D seismic activities in the Beaufort Sea; north of the Colville River Delta | 19-04.
2019 | BEM Systems, Incorporated | Remediation | Former United States Air Force Bullen Point Short Range Radar Station | 19-05.
2019 | BP Exploration (Alaska), Inc | Demobilization | Liberty oil rig demobilization and removal | 19-06.
2019 | Chevron Environmental Management Company | Support services | Debris removal at the former Kalubik Creek No. 1 wellsite on the North Slope | 19-07.
2019 | Eni U.S. Operation Company, Inc | Exploration, development, and production | Nakaitchuq and Oooguruk oilfields | 19-08.
2019 | Peak Oilfield Service Company, LLC | Support services | Transportation activities on the North Slope | 19-09.
2019 | SAExploration | Support services | Summer cleanup and flyovers on the North Slope | 19-10.
2019 | PRA Petrotechnical Resources of Alaska | Production and research | Monitoring the Hydrate 01 well in Kuparuk | 19-11a.
2019 | Brooks Range Petroleum Corporation | Development | Mustang on the North Slope of Alaska | 19-11b.
2019 | Hilcorp Alaska, LLC | Support services | Arctic cod monitoring associated with the Liberty Project | 19-12.
2019 | ConocoPhillips Alaska, Inc | Development | Greater Mooses Tooth Two (MT7; GMT2) | 19-14.
2019 | SAExploration | Exploration and support services | Seismic surveys and cleanup activities on the North Slope | 19-15.
2019 | ConocoPhillips Alaska, Inc | Exploration | Appraisal well drilling at Willow | 19-16.
2019 | SAExploration | Exploration and support services | Winter seismic and cleanup activities associated with Willow, Narwhal, and Kuukpik | 19-17.
2019 | ConocoPhillips Alaska, Inc | Exploration, development, and support services | Geotechnical surveys; installation of equipment and gravel/ice road development; sampling at Willow | 19-18.
2019 | ConocoPhillips Alaska, Inc | Exploration and development | Fiord West Kuparuk Pilot Program | 19-19.
2020 | Hilcorp Alaska, LLC | Acquisition | Hilcorp Alaska, LLC, acquired all of BP Exploration (Alaska), Inc.'s interests and assets | 16-14 [amended].
2020 | Olgoonik Construction Services | Production | Plug and abandonment, surface remediation with the Simpson Wells Remediation Project | 20-01.
2020 | Alyeska Pipeline Service Company | Production | Operation and maintenance of the Trans-Alaska Pipeline System | 20-02.
2020 | Oil Search Alaska | Exploration, development, support services | Geotechnical boring, surveys, cleanup, installation of facilities and pipelines, and gravel farming at the Pikka Development | 20-03 [corrected].
2020 | ConocoPhillips Alaska, Inc | Development | Greater Mooses Tooth Two (MT7; GMT2) | 20-04.
2020 | Peak Oilfield Service Company, LLC | Support services | Transportation activities on the North Slope | 20-05 [corrected].
2020 | Jade Energy, LLC | Development and support services | Maritime barging and tundra ice road construction in the Point Thomson Unit | 20-06 [corrected]
2020 | Olgoonik Construction Services | Remediation | Permanent plugging, abandonment, and surface remediation for the Fish Creek and Inigok Legacy Wells Remediation Project | 20-07.
2020 | ConocoPhillips P&A Program | Development, support services | Construction of an ice road, transportation, and cleanup activities in the National Petroleum Reserve—Alaska | 20-09.
2020 | Emerald House, LLC | Support services | Transportation activities to the Peregrine Lease Block within the National Petroleum Reserve—Alaska | 20-10.
2020 | ConocoPhillips Willow | Development | Construction for Willow | 20-11.
2020 | Northern Energy Services | Acquisition, close out, and support services | Northern Energy Services acquired Peak Oilfield Service Company, LLC; transportation activities on the North Slope | 20-14.

On August 1, 2019, the Service published in the Federal Register a final rule (84 FR 37716) establishing regulations that allow us to authorize the nonlethal, incidental, unintentional take of small numbers of northern sea otters (Enhydra lutris kenyoni) during year-round oil and gas industry exploration, development, production, and transportation activities in the Cook Inlet of Alaska. The rule established subpart K in part 18 of title 50 of the CFR and is effective through August 1, 2024. The rule prescribed a process under which we issue LOAs to applicants conducting activities as described under the provisions of the regulations.

Each LOA stipulates conditions or methods that are specific to the activity and location. Holders of the LOAs must use methods and conduct activities in a manner that minimizes to the greatest extent practicable adverse impacts on northern sea otters and their habitat, and on the availability of northern sea otters for subsistence purposes. Intentional take and lethal incidental take are prohibited under these regulations.

In accordance with section 101(a)(5)(A) of the Marine Mammal Protection Act (MMPA; 16 U.S.C. 1361 et seq.) and our regulations at 50 CFR part 18, subpart K, in 2019 and 2020 we issued LOAs to each of the following companies in the Cook Inlet of Alaska shown below in table 2.

Table 2—Cook Inlet Letters of Authorization
Year | Company | Activity | Project | LOA #
2019 | Hilcorp Alaska, LLC | Exploration | 3D seismic surveys in the Cook Inlet | 19-CI-01
2019 | Hilcorp Alaska, LLC | Production | Routine maintenance activities on platforms and pipelines in the Cook Inlet | 19-CI-02
2020 | Hilcorp Alaska, LLC | Exploration | Geotechnical surveys in the Lower Cook Inlet | 20-CI-01

Authority: We issue this notice under the authority of the MMPA (16 U.S.C. 1361 et seq.).

Karen Cogswell,
Acting Regional Director, Alaska Region.

[FR Doc. 2021-18770 Filed 8-30-21; 8:45 am]

BILLING CODE 4333-15-P